FEDERAL COMMUNICATIONS COMMISSION

47 CFR Part 73

[MB Docket No. 24-224; RM-11988; DA 24-731; FR ID 235793]

Television Broadcasting Services Lubbock, Texas

AGENCY: Federal Communications Commission.

ACTION: Proposed rule.

SUMMARY: The Video Division, Media Bureau (Bureau), has before it a Joint Petition for Rulemaking filed May 21, 2024, by Gray Television Licensee, LLC (Gray), the licensee of KCBD, Lubbock, Texas (KCBD), which is operating on channel 11 but previously held a construction permit for channel 36, and SagamoreHill of Lubbock, LLC (SagamoreHill), the licensee of KJTV-TV, channel 35, Lubbock, Texas (KJTV-TV). As discussed below, Gray and SagamoreHill request that the Bureau amend the Table of TV Allotments to permit the stations to “swap” channels and authorize KCBD to operate on channel 35 and KJTV-TV to operate on channel 11. Accordingly, we seek comment on substituting channel 11 for channel 35 and channel 35 for channel 36 at Lubbock, Texas (Lubbock).

DATES: Comments must be filed on or before September 9, 2024 and reply comments on or before September 23, 2024.

ADDRESSES: Federal Communications Commission, Office of the Secretary, 45 L Street NE, Washington, DC 20554. In addition to filing comments with the FCC, interested parties should serve counsel for the Joint Petitioner as follows: Joan Stewart, Esq., Wiley Rein, LLP, 2050 M Street NW, Washington, DC 20036 and Scott Woodworth, Esq., Edinger Associates PLLC, 1725 I Street, Ste. 300, Washington, DC 20006.

FOR FURTHER INFORMATION CONTACT: Joyce Bernstein, Video Division, Media Bureau, (202) 418-1647, at Joyce.Bernstein@fcc.gov; Emily Harrison, Video Division, Media Bureau, (202) 418-1665, at Emily.Harrison@fcc.gov; or Mark Colombo, Video Division, Media Bureau, (202) 418-7611, at Mark.Colombo@fcc.gov.

SUPPLEMENTARY INFORMATION: In 2021, at Gray's request, the Bureau amended the Table of TV Allotments to substitute UHF channel 36 for VHF channel 11 at Lubbock. Accordingly, channel 11 is no longer allotted to Lubbock in the Table of TV Allotments. Gray requested and was granted a construction permit to modify KCBD's facility to operate on channel 36 at Lubbock, using the existing broadband antenna currently used by KJTV-TV that is mounted on a tower located 5.5 kilometers from the licensed KCBD channel 11 site. Gray did not construct the facility. The Joint Petitioners now propose to “swap” the licensed channels and equipment for KCBD (channel 11) and KJTV-TV (channel 35). In order to effectuate this proposal, the Bureau must: (1) amend the Table of TV Allotments to substitute channel 11 at Lubbock for channel 35 and (2) amend the Table of TV Allotments to substitute channel 35 at Lubbock for channel 36. Upon grant of the proposed channel substitutions, the Joint Petitioners must simultaneously implement their proposed channel substitutions.

According to the Joint Petitioners, this proposal will serve the public interest because it will allow SagamoreHill to replace KJTV-TV's failing equipment with the equipment currently used by KCBD on channel 11. Specifically, Joint Petitioners state that KJTV-TV's tube transmitter is failing, that replacement parts for tube transmitters are not available, and that the cost for SagamoreHill to replace the transmitter for KJTV-TV's 1000 kW facility is prohibitively expensive. KCBD's channel 11 equipment, however, “is in good operating condition.” According to the Joint Petitioners, because Gray had planned to invest in a new 1000 kW transmitter for KCBD on channel 36, it will be able to use the new transmitter to instead replace the failing channel 35 transmitter and operate KCBD on channel 35. In turn, Gray will provide SagamoreHill with its channel 11 equipment (i.e., antenna, transmitter, etc.) that it had planned to decommission following its move to channel 36. With regard to the proposed channel substitutions, according to the Engineering Statement submitted with the Joint Petition, there would be no predicted loss area on channel 35 when compared to KCBD's previously-authorized channel 36 facility. There would in fact be a small gain of 191 persons. Further, the proposed channel 11 facility for KJTV-TV encompasses its currently licensed channel 35 facility, and thus would also not result in any viewer loss. In fact, moving KJTV-TV from channel 35 to channel 11 would provide additional service to approximately 8,000 persons.

We believe that Joint Petitioners' proposal warrants consideration. We believe channel 11 can be substituted for channel 35 at Lubbock, as proposed, in compliance with the principal community coverage requirements of § 73.618(a) of the Commission's rules (Rules), at coordinates 33°-32′-29.9″ N and 101°-50′-13.6″ W. In addition, we find that this channel change meets the technical requirements set forth in § 73.622(a) of the Rules. Furthermore, the proposed channel substitution would not cause any loss of service to viewers of KJTV-TV, would increase the population served within KJTV-TV's NLSC, and would provide KJTV-TV with access to better and more functional equipment.

This is a synopsis of the Commission's Notice of Proposed Rulemaking, MB Docket No. 24-224; RM-11988; DA 24-731, adopted July 29, 2024, and released July 29, 2024. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this notice of proposed rulemaking/further notice of proposed rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Texas, revise the entry for Lubbock to read as follows:

§ 73.622 Digital television table of allotments.

* * * * *

(j) * * *

Community | Channel No.
* * * * *
Texas
* * * * *
Lubbock | 11, 16, * 25, 27, 31, 35.
* * * * *

[FR Doc. 2024-17426 Filed 8-7-24; 8:45 am]

BILLING CODE 6712-01-P